FEDERAL COMMUNICATIONS COMMISSION

47 CFR Part 73

[DA 01-1080; MM Docket No. 00-165; RM-9941]

Radio Broadcasting Services; Royston and Arcade, GA

AGENCY: Federal Communications Commission.

ACTION: Final rule.

SUMMARY: In response to a proposal filed on behalf of Southern Broadcasting of Athens, Inc., the Commission reallots Channel 279C3 from Royston to Arcade, Georgia, as that community's first local aural transmission service, and modifies the license for Station WPUP(FM) accordingly. See 65 FR 56858, September 20, 2000. Coordinates used for Channel 279C3 at Arcade are 34-15-09 NL; 83-28-28 WL.

DATES: Effective June 11, 2001.

FOR FURTHER INFORMATION CONTACT: Nancy Joyner, Mass Media Bureau, (202) 418-2180.

SUPPLEMENTARY INFORMATION: This is a synopsis of the Commission's Report and Order, MM Docket No. 00-165, adopted April 18, 2001, and released April 27, 2001. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Georgia, is amended by adding Arcade, Channel 279C3, and by removing Royston, Channel 279C3.

Federal Communications Commission.
John A. Karousos,
Chief, Allocations Branch, Policy and Rules Division, Mass Media Bureau.

[FR Doc. 01-12088 Filed 5-14-01; 8:45 am]

BILLING CODE 6712-01-P